DEPARTMENT OF COMMERCE

Foreign-Trade Zones Board

[B-25-2013]

Foreign-Trade Zone (FTZ) 39—Dallas-Fort Worth, Texas; Notification of Proposed Production Activity; CSI Calendering, Inc. (Rubber Coated Textile Fabric); Arlington, Texas

The Dallas/Fort Worth International Airport Board, grantee of FTZ 39, submitted a notification of proposed production activity to the FTZ Board on behalf of CSI Calendering, Inc. (CSI), located in Arlington, Texas. The notification conforming to the requirements of the regulations of the FTZ Board (15 CFR 400.22) was received on March 4, 2013.

A separate application for “usage-driven” Web site designation at the CSI facility is planned and will be processed under Section 400.24 of the FTZ Board's regulations. The facility is used for the calendering, slitting, and laminating of RFL (resorcinol formaldehyde latex) textile fabric. Pursuant to 15 CFR 400.14(b), FTZ activity would be limited to the specific foreign-status materials and components and specific finished products described in the submitted notification (as described below) and subsequently authorized by the FTZ Board.

Production under FTZ procedures could exempt CSI from customs duty payments on the foreign status components used in export production. On its domestic sales, CSI would be able to choose the duty rate during customs entry procedures that applies to rubber coated, calendered fabric (duty rate—free) for the foreign status inputs noted below. Customs duties also could possibly be deferred or reduced on foreign status production equipment.

The components and materials sourced from abroad include: synthetic rubber; natural rubber; woven industrial fabric (of synthetic staple fibers); woven industrial fabric (of synthetic filament yarn); and, polyester tire cord fabric (duty rate ranges from free to 13.6%).

Public comment is invited from interested parties. Submissions shall be addressed to the Board's Executive Secretary at the address below. The closing period for their receipt is May 6, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Pierre Duy at Pierre.Duy@trade.gov, or (202) 482-1378.

Dated: March 21, 2013.
Andrew McGilvray,
Executive Secretary.

[FR Doc. 2013-06925 Filed 3-25-13; 8:45 am]

BILLING CODE 3510-DS-P